FEDERAL COMMUNICATIONS COMMISSION

47 CFR Part 73

[DA 02-3087; MM Docket No. 01-144; RM-10142, RM-10340]

Radio Broadcasting Services; Snyder, Littlefield, Wolfforth & Floydada, TX & Hobbs, NM

AGENCY: Federal Communications Commission.

ACTION: Final rule.

SUMMARY: In response to a petition filed by Charles Crawford requesting an allotment at Snyder, Texas, we shall allot Channel 235C3 in lieu of Channel 237C3 to the community at coordinates 32-42-25 and 101-05-36. See 66 FR 37632, July 19, 2001. In response to a counterproposal filed in this proceeding by 21st Century Radio Venture, Inc. and Littlefield Broadcasting, LLC, we shall substitute Channel 238C1 for Channel 238C3 at Littlefield, Texas, reallot Channel 238C1 to Wolfforth, Texas, and modify the license for Station KAIQ accordingly. The coordinates for Channel 238C1 at Wolfforth are 33-33-00 and 102-05-11. To accommodate the allotment at Wolfforth, Station KPER, Hobbs, New Mexico, has consented to a site change. The coordinates for the new site are 32-41-37 and 103-17-24. To further accommodate the Wolfforth allotment, Station KAIQ, Floydada, Texas, has filed a one-step application to modify its license to specify operation on Channel 291C3 in lieu of Channel 237A. The issue of opening the allotment of Channel 235C3 at Snyder, Texas, for auction will be addressed by the Commission in a subsequent order. With this action, this proceeding is terminated.

DATES: Effective December 23, 2002.

FOR FURTHER INFORMATION CONTACT: Kathleen Scheuerle, Media Bureau, (202) 418-2180.

SUPPLEMENTARY INFORMATION: This is a summary of the Commission's Report and Order, MM Docket No. 01-144, adopted October 23, 2002, and released November 8, 2002. The full text of this Commission decision is available for inspection and copying during regular business hours in the FCC's Reference Information Center, Portals II, 445 12th Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Texas, is amended by adding Channel 235C3 at Snyder, by removing Littlefield, Channel 238C3 and by adding Wolfforth, Channel 238C1.

Federal Communications Commission.
John A. Karousos,
Assistant Chief, Audio Division, Media Bureau.

[FR Doc. 02-31605 Filed 12-13-02; 8:45 am]

BILLING CODE 6712-01-P